DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of two individuals and four entities whose property and interests in property have been unblocked pursuant to the Foreign Narcotics Kingpin Designation Act (“Kingpin Act”) (21 U.S.C. Sections 1901-1908, 8 U.S.C. Section 1182). In addition, OFAC is publishing an amendment to the identifying information of one individual previously designated pursuant to the Kingpin Act.

DATES: The unblocking and removal from the list of Specially Designated Nationals and Blocked Persons (“SDN List”) of the two individuals and four entities identified in this notice whose property and interests in property were blocked pursuant to the Kingpin Act, is effective on October 10, 2012.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On October 10, 2012, the Director of OFAC removed from the SDN List the two individuals and four entities listed below, whose property and interests in property were blocked pursuant to the Kingpin Act:

Individuals

1. ROMERO BARRERA, Benedicto, c/o AGROFUTURO R.H. Y CIA. S.C.S., Medellin, Colombia; c/o COLOMBIAN GREEN STONE CORPORATION LTDA., Bogota, Colombia; c/o ONLYTEX S.A., Sabaneta, Antioquia, Colombia; DOB 06 Jan 1964; POB Campohermoso, Boyaca, Colombia; Cedula No. 1015491 (Colombia) (individual) [SDNTK].

2. ROMERO VARELA, Carlos Ali (a.k.a. MARTINEZ, Richard), c/o LOS GNOMOS LTDA., Cali, Colombia; c/o SOCIEDAD DE COMERCIALIZACION INTERNACIONAL POSEIDON S.A., Sabaneta, Antioquia, Colombia; DOB 19 Mar 1959; alt. DOB 19 Feb 1959; Cedula No. 13447909 (Colombia); Passport B0088212 (Venezuela) (individual) [SDNTK].

Entities

1. AGROFUTURO R.H. Y CIA. S.C.S., Calle 80 Sur No. 47D-65 Bod. 114, Medellin, Colombia; NIT # 811039023-0 (Colombia) [SDNTK].

2. LOS GNOMOS LTDA., Calle 5 No. 61-82, Apt. 412B, Cali, Valle, Colombia; NIT # 800165614-2 (Colombia) [SDNTK].

3. ONLYTEX S.A., Calle 80 Sur No. 47D-65, Sabaneta, Antioquia, Colombia; NIT # 811029489-6 (Colombia) [SDNTK].

4. SOCIEDAD DE COMERCIALIZACION INTERNACIONAL POSEIDON S.A. (f.k.a. C.I. COMERCIALIZADORA INTERNACIONAL POSEIDON S.A.; a.k.a. C.I. POSEIDON S.A.), Calle 79 Sur No. 48B-56, Sabaneta, Antioquia, Colombia; NIT # 800173090-7 (Colombia) [SDNTK].

In addition, OFAC has amended the identifying information for the following individual previously designated pursuant to the Kingpin Act:

1. ISAZA ALVAREZ, Carlos Arturo, c/o AGROFUTURO R.H. Y CIA. S.C.S., Medellin, Colombia; c/o COMERCIALIZADORA AUTOMOTORA MATECANA LTDA., Pereira, Colombia; c/o COMERCIALIZADORA EL PROVEEDOR LTDA., Villavicencio, Colombia; c/o INVERSIONES BUENOS AIRES LTDA., Pereira, Colombia; c/o INVERSIONES Y DISTRIBUCIONES COLOMBIANAS EL OASIS LTDA., Villavicencio, Colombia; c/o PROVEEDORES Y DISTRIBUIDORES NACIONALES S.A., Bogota, Colombia; DOB 15 Aug 1947; Cedula No. 8281272 (Colombia) (individual) [SDNTK].

The listing for this individual now appears as follows:

1. ISAZA ALVAREZ, Carlos Arturo; DOB 15 Aug 1947; Cedula No. 8281272 (Colombia) (individual) [SDNTK] Linked to: COMERCIALIZADORA AUTOMOTORA MATECANA LTDA.; Linked to: COMERCIALIZADORA EL PROVEEDOR LTDA.; Linked to: INVERSIONES BUENOS AIRES LTDA.; Linked to: INVERSIONES Y DISTRIBUCIONES COLOMBIANAS EL OASIS LTDA.; Linked to: PROVEEDORES Y DISTRIBUIDORES NACIONALES S.A..

Dated: October 10, 2012.
Adam J. Szubin,
Director, Office of Foreign Assets Control.

[FR Doc. 2012-25302 Filed 10-15-12; 8:45 am]

BILLING CODE 4810-AL-P